FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011539-016.

Title: Norasia Group/HLAG Space Charter and Sailing Agreement.

Parties: Companhia Libra de Navegacao (Libra); Compania Sud Americana de Vapores, S.A. (CSAV); Compania Libra de Navegacion Uruguay S.A.; Hapag-Lloyd AG.; and Norasia Container Lines Limited.

Filing Party: Wayne R. Rohde, Esq.; Cozen O'Connor; 1627 I Street NW., Suite 1100; Washington, DC 20006.

Synopsis: The amendment adds Norasia as a party to the agreement, changes references to CSAV to refer to Norasia, and adds language relating to the transfer of the agreement to Norasia in connection with a corporate transaction between CSAV and Hapag Lloyd. The amendment also changes the name of the agreement and restates the agreement.

Agreement No.: 011839-008.

Title: Med-Gulf Space Charter Agreement.

Parties: Hapag-Lloyd AG; Compania Sud Americana de Vapores S.A.; and Norasia Lines Limited.

Filing Party: Wayne R. Rohde, Esq.; Cozen O'Connor; 1627 I Street NW., Suite 1100; Washington, DC 20006.

Synopsis: The amendment adds Norasia as a party to the agreement, changes references to CSAV to refer to Norasia, and adds language relating to the transfer of the agreement to Norasia in connection with a corporate transaction between CSAV and Hapag Lloyd. The amendment also restates the agreement.

Agreement No.: 012220-001.

Title: Crowley/Seaboard Space Charter and Sailing Agreement.

Parties: Crowley Latin America Services, LLC; and Seaboard Marine, Ltd.

Filing Party: Wayne R. Rohde, Esq.; Cozen O'Connor; 1627 I Street NW., Suite 1100; Washington, DC 20006.

Synopsis: The amendment would add authority for the parties to compensate one another for differences in vessel operating costs, and update and clarify restrictions related to this authority.

Agreement No.: 012245-001.

Title: Eastern Car Liner Ltd./Rickmers-Linie GmbH & Cie. KG Space Charter Agreement.

Parties: Eastern Car Liner Ltd. and Rickmers-Linie GmbH & Cie. KG

Filing Party: Wayne R. Rohde, Esq.; Cozen O'Connor; 1627 I Street NW., Suite 1100; Washington, DC 20006.

Synopsis: The amendment expands the geographic scope of the agreement to cover all U.S. inbound and outbound trades.

Agreement No.: 012249-001.

Title: Norasia/Hapag Lloyd Mexico Space Charter Agreement.

Parties: Compania Sud Americana de Vapores S.A.; Hapag Lloyd A.G.; and Norasia Container Lines Limited.

Filing Party: Wayne R. Rohde, Esq.; Cozen O'Connor; 1627 I Street NW., Suite 1100; Washington, DC 20006.

Synopsis: The amendment adds Norasia as a party to the agreement, changes references to CSAV to refer to Norasia, and adds language relating to the transfer of the agreement to Norasia in connection with a corporate transaction between CSAV and Hapag Lloyd. The amendment also changes the name of the agreement and restates the agreement.

Agreement No.: 012266-001.

Title: HLAG/Norasia Trans-Atlantic Space Charter Agreement.

Parties: Hapag-Lloyd AG; Compania Sud Americana de Vapores S.A.; and Norasia Container Lines Limited.

Filing Party: Wayne R. Rohde, Esq.; Cozen O'Connor; 1627 I Street NW., Suite 1100; Washington, DC 20006.

Synopsis: The amendment adds Norasia as a party to the agreement, changes references to CSAV to refer to Norasia, and adds language relating to the transfer of the agreement to Norasia in connection with a corporate transaction between CSAV and Hapag Lloyd. The amendment also changes the name of the agreement and restates the agreement.

Agreement No.: 201212-002.

Title: Marine Terminal Lease and Operating Agreement Between Broward County and King Ocean Services Limited (Cayman Islands) Incorporated.

Parties: Broward County and King Ocean Services Limited (Cayman Islands) Incorporated.

Filing Party: Candace J. Running; Broward County Board of County Commissioners; Office of the County Attorney; 1850 Eller Drive, Suite 502; Fort Lauderdale, FL 33316.

Synopsis: The amendment increases the number of acres being leased, the rent, and the annual minimum guarantee payments.

By Order of the Federal Maritime Commission.
Dated: June 27, 2014.
Karen V. Gregory,
Secretary.

[FR Doc. 2014-15532 Filed 7-1-14; 8:45 am]

BILLING CODE 6730-01-P